DEPARTMENT OF JUSTICE

Antitrust Division

Notice Pursuant to the National Cooperative Research and Production Act of 1993—OpenSAF Foundation

Notice is hereby given that, on April 8, 2008, pursuant to Section 6(a) of the National Cooperative Research and Production Act of 1993, 15 U.S.C. et seq. (“the Act”), OpenSAF Foundation has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Wind River Systems, Alameda, CA; Hewlett-Packard Company, Palo Alto, CA; Emerson Network Power Embedded Computing, Tempe, AZ; Sun Microsystems, Inc., Santa Clara, CA; Ericsson AB, Alvsjo, Sweden; and Nokia Siemens Networks, Espoo, Finland. The general area of OpenSAF Foundation's planned activity are to enable and facilitate the creation of high availability vendor-neutral open source software tools (the “Foundation Software”) generally consistent with SA Forum specifications and to disseminate, promote and encourage the use of the Foundation Software worldwide to ensure broad adoption. OpenSAF Foundation will pursue these purposes through additional activities such as providing for testing and conformity assessment of Foundation Software; the creation and ownership of distinctive trademarks; and the operation of a branding program based upon distinctive trademarks to create high customer awareness of, demand for, and confidence in products incorporating or interoperable with Foundation Software and/or Specifications. OpenSAF Foundation may also create specifications where they are not available from other sources and undertake those other activities which its Board may from time to time approve in connection with the foregoing.

Patricia A. Brink,
Deputy Director of Operations, Antitrust Division.

[FR Doc. E8-10842 Filed 5-15-08; 8:45 am]

BILLING CODE 4410-11-M